DEPARTMENT OF ENERGY

Federal Energy Regulatory Commission

[Docket No. CP09-17-000]

Florida Gas Transmission Company, LLC; Notice of Availability of the Draft Environmental Impact Statement for the Proposed Phase VIII Expansion Project

April 17, 2009.

The staff of the Federal Energy Regulatory Commission (Commission or FERC) has prepared a draft environmental impact statement (EIS) on the natural gas pipeline facilities proposed by Florida Gas Transmission Company, LLC (FGT) in the above-referenced docket. FGT's Phase VIII Expansion Project (Project) would be located in Alabama and Florida.

The draft EIS was prepared to satisfy the requirements of the National Environmental Policy Act of 1969 (NEPA). The FERC staff concludes that the proposed project, with the appropriate mitigation measures as recommended, would have limited adverse environmental impact.

The U.S. Army Corps of Engineers (COE) and U.S. Department of Agriculture Forest Service (USFS) are cooperating agencies for this EIS. Cooperating agencies have jurisdiction by law or special expertise with respect to resources potentially affected by the proposal and participate in the NEPA analysis. The Project would require permits from the cooperating agencies pursuant to Section 404 of the Clean Water Act (33 United States Code [U.S.C.] 1344), Section 10 of the Rivers and Harbors Act (33 U.S.C. 403), right-of-way grants within the Apalachicola National Forest (ANF), and/or temporary use permits. The COE would adopt the EIS per Title 40 Code of Federal Regulations § 1506.3 (40 CFR 1506.3) if, after an independent review of the document, it concludes that its comments and suggestions have been satisfied. The USFS manages all Federal lands (ANF) that would be crossed by this Project. A special-use permit would be issued by the USFS for the existing right-of-way for two existing pipelines (a 30-inch and a 36-inch-diameter) and the proposed additional 36-inch-diameter pipeline. This additional pipeline would require an additional 40 feet of right-of-way adjacent to the existing right-of-way. By participating as a cooperating agency, the USFS will obtain the views of the public prior to reaching an easement decision.

The draft EIS addresses the potential environmental effects of the following Project facilities:

• Construction and operation of about 357.3 miles of mixed-diameter looping segments in Mobile, Baldwin, and Escambia Counties, Alabama and Escambia, Santa Rosa, Okaloosa, Walton, Washington, Jackson, Bay, Calhoun, Gadsden, Leon, Jefferson, Taylor, Lafayette, Suwannee, Gilchrist, Levy, Citrus, Hernando, Pasco, Hillsborough, and Miami-Dade Counties, Florida;

• Construction and operation of about 125.9 miles of three mixed-diameter segments of greenfield pipeline in Lafayette, Madison, Manatee, DeSoto, Highlands, Okeechobee, Martin, and Suwannee Counties, Florida;

• Acquisition from Florida Power & Light Company (FPL) one 22.7 mile 20-inch-diameter segment of pipeline, located in Martin County, Florida, as an “in service” pipeline;

• Installation of about 198,000 horsepower (hp) of compression at 8 existing compressor stations;

• Installation of one new 15,600 hp compressor station in Highlands County, Florida;

• Acquisition of additional property directly adjacent to four existing compressor stations for expansion, expand four compressor stations within their right-of-way, and acquire the property for one new compressor station; and

• Construction and operation of new meter and regulator (M&R) Stations in Suwannee County, Manatee County, and Martin County, Florida; upgrade two M&R Stations in Mobile County, Alabama and Martin County, Florida; and construct one new regulator station in Lafayette County, Florida.

Comment Procedures and Public Meetings

You can make a difference by providing us with your specific comments or concerns about the Phase VIII Expansion Project. Your comments should focus on the potential environmental effects, reasonable alternatives, and measures to avoid or lessen environmental impacts. The more specific your comments, the more useful they will be. To ensure consideration of your comments on the proposal in the final EIS, it is important that the Commission receive your comments before June 8, 2009.

For your convenience, there are four methods in which you can use to submit your comments to the Commission. In all instances please reference the project docket number CP09-17-000 with your submission. The Commission encourages electronic filing of comments and has dedicated eFiling expert staff available to assist you at (202) 502-8258. or efiling@ferc.gov. Please carefully follow these instructions so that your comments are properly recorded:

(1) You may file your comments electronically by using the Quick Comment feature, which is located on the Commission's Internet Web site at http://www.ferc.gov under the link Documents and Filings. A Quick Comment is an easy method for interested persons to submit text-only comments on a project;

(2) You may file your comments electronically by using the eFiling feature, which is located on the Commission's Internet Web site at http://www.ferc.gov under the link to Documents and Filings. eFiling involves preparing your submission in the same manner as you would if filing on paper, and then saving the file on your computer's hard drive. You will attach that file as your submission. New eFiling users must first create an account by clicking on “Sign-up” or “eRegister.” You will be asked to select the type of filing your are making. A comment on a particular project is considered a “Comment on a Filing;”

(3) You may file your comments via mail to the Commission by sending an original and two copies of your letter to: Kimberly D. Bose, Secretary, Federal Energy Regulatory Commission, 888 First St., NE., Room 1A, Washington, DC 20426; label one copy of your comments for the attention of the Gas Branch 1, PJ11.1 and reference Docket No. CP09-17-000 on the original and both copies; and

(4) In lieu of sending written or electronic comments, the FERC invites you to attend one of the public comment meetings the staff will conduct in the project area to receive comments on the draft EIS. All meetings will begin at 7 p.m., and are scheduled as follows:

Date | Location
Tuesday, May 12, 2009, 7 p.m | Crestview Community Center, 1446 Commerce Drive, Crestview, Florida, 850-682-0647.
Thursday, May 14, 2009, 7 p.m | Catholic Church Parish Hall, 2750 S. Byron Butler Parkway Perry, Florida 850-584-8853.
Tuesday, May 19, 2009, 7 p.m | Residence Inn by Marriott, 2101 Northpointe Parkway, Lutz, Florida, 813-792-8400.
Thursday, May 21, 2009, 7 p.m | Holliday Inn Express, 608 South Lakeview Road, Lake Placid, Florida, 863-465-9916.

Interested groups and individuals are encouraged to attend and present oral comments on the draft EIS. Transcripts of the meetings will be prepared.

After the comments are reviewed, any significant new issues are investigated, and modifications are made to the draft EIS, a final EIS will be published and distributed. The final EIS will contain the staff's responses to timely comments received on the draft EIS.

Comments will be considered by the Commission but will not serve to make the commentor a party to the proceeding. Any person seeking to become a party to the proceeding must file a motion to intervene pursuant to Rule 214 of the Commission's Rules of Practice and Procedures (18 CFR 385.214). Anyone may intervene in this proceeding based on this draft EIS. You must file your request to intervene as specified above.¹ Only intervenors have the right to seek rehearing of the Commission's decision. You do not need intervenor status to have your comments considered.

¹ Interventions may also be filed electronically via the Internet in lieu of paper. See the previous discussion on filing comments electronically.

The draft EIS has been placed in the public files of the FERC and the COE, and is available for public inspection at:

Federal Energy Regulatory Commission Public Reference Room 888 First Street, NE, Room 2A Washington, DC 20426 (202) 502-8371 | U.S. Army Corps of Engineers, Jacksonville District, 701 San Marco Boulevard, Jacksonville, Florida 32207, 904-232-1472 | U.S. Forest Service, Apalachicola National Forest, 57 Taft Drive, Crawfordville, Florida 32327, 850-926-3561.

A limited number of copies are available from the FERC's Public Reference Room identified above. This draft EIS is also available for public viewing on the FERC's Internet Web site at http://www.ferc.gov. In addition, copies of the draft EIS have been mailed to Federal, State, and local government agencies; elected officials; Native American Tribes; local libraries and newspapers; intervenors in the FERC's proceeding; individuals who provided scoping comments; and affected landowners and individuals who requested the draft EIS.

Additional information about the project is available from the Commission's Office of External Affairs, at 1-866-208-FERC (3372) or on the FERC Internet Web site (http://www.ferc.gov). Using the “eLibrary” link, select “General Search” from the eLibrary menu, enter the selected date range and “Docket Number,” excluding the last three digits in the Docket Number field (i.e., CP09-17), and follow the instructions. You may also search using the phrase “FGT Phase VIII Expansion Project” in the “Text Search” field. For assistance with access to eLibrary, the helpline can be reached at 1-866-208-3676, TTY (202) 502-8659, or at FERCOnlineSupport@ferc.gov. The eLibrary link on the FERC Internet Web site also provides access to the texts of formal documents issued by the Commission, such as orders, notices, and rulemakings.

In addition, the Commission offers a free service called eSubscription that allows you to keep track of all formal issuances and submittals in specific dockets. This can reduce the amount of time you spend researching proceedings by automatically providing you with notification of these filings, document summaries, and direct links to the documents. To register for this service, go to http://www.ferc.gov/esubscribenow.htm.

Information concerning the involvement of the COE is available from Bev Lawrence at 904-232-2517 and information concerning the involvement of the ANF is available from Harold Shenk at 850-926-3561.

Kimberly D. Bose,
Secretary.

[FR Doc. E9-9600 Filed 4-27-09; 8:45 am]

BILLING CODE 6717-01-P